DEPARTMENT OF THE INTERIOR

Central Utah Project Completion Act

AGENCIES: Department of the Interior, Office of the Assistant Secretary—Water and Science.

ACTION: Notice of Availability, Record of Decision (ROD) on the Lower Duchesne River Wetlands Mitigation Project Final Environmental Impact Statement (FEIS 08-13) documenting the Department of the Interior's decision to adopt the Proposed Action and approval to proceed with implementation.

SUMMARY: The Office of the Assistant Secretary of the Interior for Water and Science has signed the Record of Decision which documents the selection of the Proposed Action as presented in the Final Environmental Impact Statement (FEIS) for the Lower Duchesne River Wetlands Mitigation Project (LDWP), Duchesne and Uintah Counties, Utah, a mitigation component of the Central Utah Project (CUP). The FEIS was prepared in accordance with the National Environmental Policy Act of 1969 (NEPA) and was filed with the Environmental Protection Agency on April 11, 2008. The ROD approves implementation of the project in accordance with statutory and contractual obligations.

The Proposed Action fulfills a Central Utah Project need to complete certain environmental mitigation obligations of the Federal government to the Ute Indian Tribe of the Uintah and Ouray Agency, Ft. Duchesne, Utah. These mitigation commitments derive from construction and operation of the Strawberry Aqueduct and Collection System (SACS) of the CUP. The SACS has diverted Ute Indian Tribal water away from the Duchesne River and, thereby, depleted water sources which historically supported wetlands, riparian habitats and associated fish and wildlife resources held in trust by the Federal government for the benefit of the Ute Indian Tribe. The LDWP will replace, restore and enhance these trust resources consistent with long-standing commitments and promises made by the Federal government to the Ute Indian Tribe.

The Department of the Interior and the Utah Reclamation Mitigation and Conservation Commission served as Joint Lead Agencies in compliance with NEPA. The Ute Indian Tribe, U.S. Fish and Wildlife Service, Bureau of Indian Affairs, Bureau of Reclamation, Duchesne County and Uintah County served as Cooperating Agencies. The FEIS and ROD satisfy disclosure requirements of NEPA and will serve as NEPA compliance documentation for all contracts, agreements and permits that will be required for construction and operation of the project.

FOR FURTHER INFORMATION CONTACT: For further information or to request copies of the FEIS, ROD or supporting resource technical reports contact Mr. Ralph G. Swanson at (801) 379-1254, or rswanson@uc.usbr.gov.

Reed R. Murray,
Program Director, Department of the Interior.

[FR Doc. E8-25625 Filed 10-24-08; 8:45 am]

BILLING CODE 4310-RK-P